DEPARTMENT OF TRANSPORTATION

Surface Transportation Board

[Docket No. AB 290 (Sub-No. 370X)]

Norfolk Southern Railway Company—Discontinuance of Service Exemption—in Clermont, Brown and Adams Counties, Ohio

AGENCY: Surface Transportation Board, DOT.

ACTION: Correction to notice of petition for exemption.

On September 30, 2014, Norfolk Southern Railway Company (NSR) filed with the Surface Transportation Board a petition under 49 U.S.C. 10502 for exemption from the provisions of 49 U.S.C. 10903 to discontinue rail service over approximately 40.7 miles of rail line between milepost CT 32.83 at Williamsburg and milepost CT 73.50 at Plum Run in Clermont, Brown and Adams Counties, Ohio.

On October 20, 2014, notice of the petition for exemption was served and published in the Federal Register (79 FR 62,708). The notice erroneously stated that replies to the petition were due on or before October 30, 2014. This notice corrects that statement. Replies are due on or before November 10, 2014. All other information in the notice is correct.

Board decisions and notices are available on our Web site at “WWW.STB.DOT.GOV.”

Decided: November 6, 2014.
By the Board, Rachel D. Campbell, Director, Office of Proceedings.
Brendetta S. Jones,
Clearance Clerk.

[FR Doc. 2014-26827 Filed 11-12-14; 8:45 am]

BILLING CODE 4915-01-P